DEPARTMENT OF THE INTERIOR

Fish and Wildlife Service

[FWS-R4-ES-2010-N109; 40120-1112-0000-F5]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below, by July 6, 2010.

ADDRESSES: Documents and other information submitted with the applications are available for review, subject to the requirements of the Privacy Act and Freedom of Information Act, by any party who submits a written request for a copy of such documents to the following office within 30 days of the date of publication of this notice: Fish and Wildlife Service, 1875 Century Boulevard, Suite 200, Atlanta, Georgia 30345 (Attn: Cameron Shaw, Permit Coordinator).

FOR FURTHER INFORMATION CONTACT: Cameron Shaw, telephone 904/731-3191; facsimile 904/731-3045.

SUPPLEMENTARY INFORMATION: The public is invited to comment on the following applications for permits to conduct certain activities with endangered and threatened species pursuant to section 10(a)(1)(A) of the Endangered Species Act of 1973, as amended (16 U.S.C. 1531 et seq.). This notice is provided under section 10(c) of the Act. If you wish to comment, you may submit comments by any one of the following methods. You may mail comments to the Fish and Wildlife Service's Regional Office (see ADDRESSES section) or via electronic mail (e-mail) to: permitsR4ES@fws.gov. Please include your name and return address in your e-mail message. If you do not receive a confirmation from the Fish and Wildlife Service that we have received your e-mail message, contact us directly at the telephone number listed above (see FOR FURTHER INFORMATION CONTACT section). Finally, you may hand deliver comments to the Fish and Wildlife Service office listed above (see ADDRESSES section).

Before including your address, telephone number, e-mail address, or other personal identifying information in your comments, you should be aware that your entire comment—including your personal identifying information—may be made publicly available at any time. While you can ask us in your comments to withhold your personal identifying information from public review, we cannot guarantee that we will be able to do so. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

Applicant: William Waddell, Point Defiance Zoo and Aquarium, Tacoma, Washington, TE834070

The applicant requests renewed authorization to receive, retain, transfer, and harass the red wolf (Canis rufus) as required to conduct captive breeding and recovery programs for the species.

Applicant: Appalachian Technical Services, Wise, Kentucky, TE009638

The applicant requests authorization to capture, handle, radio-tag, and release Indiana bats (Myotis sodalis), gray bats (Myotis grisescens), and Virginia big-eared bats (Corynorhinus townsendii virginianus), for presence/absence surveys and scientific research.

Applicant: Benjamin Laester, Whittier, North Carolina, TE121142

The applicant requests renewed authorization to capture and handle the Indiana bat throughout its range in western North Carolina.

Applicant: Neil Turner, Turner Technology, Inc., Prestonsburg, Kentucky, TE210424

The applicant requests authorization to capture, handle, release, and use acoustical monitoring procedures to determine the presence of the Indiana bat in Kentucky.

Applicant: Susan Loeb, U.S. Forest Service, Clemson, South Carolina, TE119937

The applicant requests renewed authorization to capture, handle, release, and radio-tag Indiana bat in the following locations: Cherokee National Forest and Great Smoky Mountains National Park, Tennessee; Nantahala and Pisgah National Forests and Gold Mountain Gamelands, North Carolina.

Applicant: Roy S. DeLotelle, DeLotelle and Guthrie, Inc., Gainesville, Florida, TE825431

The applicant requests renewed authorization to capture, band, translocate, and monitor red-cockaded woodpeckers (Picoides borealis) throughout the range of the species in Florida, Georgia, South Carolina, North Carolina, Alabama, Mississippi, Tennessee, Arkansas, Texas, Oklahoma, Virginia, and Louisiana.

Applicant: North Louisiana National Wildlife Refuge Complex, Farmerville, Louisiana, TE9297A

The applicant requests authorization to trap, band, relocate and create artificial nesting cavities for red-cockaded woodpeckers throughout Louisiana and Arkansas.

Applicant: Audubon Nature Institute, New Orleans, Louisiana, TE077865

The permittee requests renewed authorization to harass and release to the wild Mississippi sandhill crane (Grus canadensis pulla) and whooping crane (Grus americana).

Applicant: Barbara Allen, Gulf Shores, Alabama, TE125557

The applicant requests renewed authorization to take, for scientific purposes and to enhance recovery efforts, Alabama beach mouse (Peromyscus polionotus ammobates), and three species of sea turtles: Kemp's ridley (Lepidochelys kempii), green (Chelonia mydas), and loggerhead (Caretta caretta).

Applicant: National Oceanic and Atmospheric Administration, National Marine Fisheries Service, Southeast Fisheries Science Center, Miami, Florida TE676379

The applicant requests renewed authorization to take (harass, capture, tag, track, salvage, collect biological samples, and euthanize) Kemp's ridley, hawksbill (Eretmochelys imbracata), leatherback (Dermochelys coriacea), green, loggerhead, and olive ridley (Lepidochelys olivacea) sea turtles for scientific purposes, enhancement of propagation or survival, recovery activities, and veterinary treatment in Virginia, North Carolina, South Carolina, Georgia, Florida, Alabama, Mississippi, Louisiana, Texas, Puerto Rico, U.S. Virgin Islands, the Gulf of Mexico, and the Northwestern Atlantic Ocean.

Applicant: Carol Johnston, Auburn, Alabama, TE178666

The applicant requests authorization to survey Coldwater Spring, Calhoun County, Alabama, to determine presence, habitat use, and diet of banded sculpin (Cottus carolinae) and pygmy sculpin (Cottus paulus) via snorkeling and stomach content analysis.

Applicant: Register-Nelson, Inc., Stockbridge, Georgia, TE114088

The applicant requests renewed authorization to capture, identify, and release blue shiner (Cyprinella caerulea), Etowah darter (Etheostoma etowahae), Cherokee darter (Etheostoma scotti), amber darter (Percina antesella), goldline darter (Percina aurolineata), snail darter (Percina tanasi), and Conasauga logperch (Percina jenkinsi) in Georgia. The applicant requests to amend the permit to include the capture, identification, and release of eastern indigo snake (Drymarchon corais couperi), reticulated flatwoods salamander (Ambystoma bishopi), and frosted flatwoods salamander (Ambystoma cingulatum) in Georgia.

Applicant: Jess Jones, Blacksburg Virginia, TE108813

The applicant requests authorization to conduct restoration activities and translocate the oyster mussel (Epioblasma capsaeformis) from the Clinch River in Tennessee upstream into Virginia.

Applicant: Campbellsville University, Campbellsville, Kentucky, TE12106

The applicant requests authorization to survey for the following freshwater mussels: ringpink (Obovaria retusa), fanshell (Cyprogenia stegaria), pocketbook (Lampsilis ovata), clubshell (Pleurobema clava), rough pigtoe (Pleurobema plenum), snuffbox (Epioblasma triquetra), and rabbitsfoot (Quadrula cylindrica).

Applicant: Ecological Resource Consultants, Inc., Panama City Beach, Florida, TE08988A

The applicant requests authorization to capture and release the following freshwater mussels while conducting presence/absence surveys in the Apalachicola, Chattahoochee, Flint, Chipola, Econfina, and Ochlockonee River Watersheds in Alabama, Georgia, and Florida: oval pigtoe (Pleurobema pyriforme), Gulf moccasinshell (Medionidus penicillatus), Chipola slabshell (Elliptio chipolaensis), purple bankclimber (Elliptoideus solatianus), shiny-rayed pocketbook (Hamiota [=Lampsilis] subangulata), fat threeridge (Amblema neislerii), and the Ochlockonee moccasinshell (Medionidus simpsonianus).

Applicant: Mark Hughes, Biological Integrity, LLC., Bainbridge, Georgia, TE12315A

The applicant requests authorization to capture and release the following freshwater mussels while conducting presence/absence surveys in the Apalachicola, Chattahoochee, Flint, Chipola, Econfina, and Ochlockonee River Watersheds in Alabama, Georgia, and Florida: oval pigtoe (Pleurobema pyriforme), Gulf moccasinshell (Medionidus penicillatus), Chipola slabshell (Elliptio chipolaensis), purple bankclimber (Elliptoideus solatianus), shiny-rayed pocketbook (Hamiota [=Lampsilis] subangulata), fat threeridge (Amblema neislerii), the Ochlockonee moccasinshell (Medionidus simpsonianus), and the Alabama moccasinshell (Medionidus acutissimus).

Applicant: U.S. Geological Survey, Georgia Cooperative Fish and Wildlife Research Unit, Athens, Georgia, TE10239A

The applicant requests authorization to capture freshwater mussels from the lower Flint River basin, Georgia, and temporarily hold them to collect hemolymph and tissue samples, evaluate fish hosts and develop propagation techniques for the oval pigtoe, Gulf moccasinshell, purple bankclimber, shiny-rayed pocketbook, and fat threeridge.

Applicant: Monte McGregor, Center for Mollusk Conservation, Kentucky Department of Fish and Wildlife Resources, Frankfort, Kentucky, TE178815

The applicant requests authorization to capture, propagate, and release multiple species of freshwater mussels (Family Unionidae) throughout their respective ranges (as collected opportunistically and based upon recovery needs).

Applicant: Dr. Kevin J. Roe, Iowa State University, TE040423

The applicant requests renewed authorization to collect tissue samples from Kentucky cave shrimp (Palaemonias ganteri) within Mammoth Cave National Park, Kentucky, for genetic evaluation.

Applicant: Stanley Rudzinski, Law Engineering and Environmental Services, Mt. Juliet, Tennessee, TE021030

The applicant requests authorization to capture and release Nashville crayfish, (Orconectes shoupi) during presence/absence surveys in the Mill Creek drainage, Davidson and Williamson counties, Tennessee.

Applicant: Norman Wagoner, Ouachita National Forest, Hot Springs, Arkansas, TE125605

The applicant requests renewed authorization to capture and release the American burying beetle (Nicrophorus americanus) while conducting inventory and monitoring surveys within the boundaries of Ouachita National Forest and Ozark-St. Francis National Forest, Arkansas and Oklahoma.

Applicant: Burns and McDonnell Engineering Company, Kansas City, Missouri, TE125620

The applicant requests renewed authorization to take the American burying beetle while conducting presence/absence surveys in Crawford, Sebastian, Franklin, Logan, and Scott counties, Arkansas.

Applicant: Archbold Expeditions, Venus, Florida, TE088035

The applicant requests renewed authorization to take or harass the following species during prescribed burn activities in Highlands County, Florida: Scrub mint (Dicerandra frutescens), snakeroot (Eryngium cuneifolium), Highland's scrub hypernicum (Hypericum cumulicola), scrub blazing star (Liatria ohlingerae), Britton's beargrass (Nolina brittoniana), wireweed (Polygonella basiramia), sandlace (Polygonella myriophylla), scrub plum (Prunus geniculata), Carter's mustard (Warea carteri) and Florida panther (Puma concolor coryi).

Applicant: Fort Jackson Military Reservation, Fort Jackson, South Carolina, TE183402

The applicant requests authorization to collect and sow seeds of smooth coneflower, (Echinacea laevigata) on Fort Jackson Military Reservation.

Applicant: Fairchild Tropical Botanic Garden, Miami, Florida, TE114069

The applicant requests renewed authorization to conduct presence/absence and mapping surveys, collect seeds and/or cuttings, and test the impact of canopy reduction on growth and reproduction of the endangered Key tree cactus (Pilosocereus robinii) in Monroe County, Florida.

Applicant: Florida Gas Transmission Company, LLC, Houston, Texas, TE139464

The applicant requests authorization to: Capture and release eastern indigo snake, frosted flatwood salamander, reticulated flatwoods salamander, gopher tortoise (Gopherus polyphemus), bluetail mole skink (Eumeces egregius lividus), and sand skink (Neoseps reynoldsi) and collect plants or plant parts of Highlands scrub Hypericum, Britton's beargrass, papery whitlow-wort (Paronychia chartacea), wireweed, and Carter's mustard. Activities may occur within the following counties: Alabama—Mobile, Baldwin, and Escambia; and Florida—Escambia, Santa Rosa, Okaloosa, Walton, Washington, Jackson, Bay, Calhoun, Gadsden, Leon, Jefferson, Taylor, Lafayette, Madison, Suwannee, Gilchrist, Levy, Citrus, Hernando, Pasco, Hillsborough, Manatee, De Soto, Highlands, Okeechobee, Martin, and Miami-Dade counties.

Dated: May 14, 2010.
Jacquelyn B. Parrish,
Acting Regional Director.

[FR Doc. 2010-13404 Filed 6-3-10; 8:45 am]

BILLING CODE 4310-55-P